DEPARTMENT OF COMMERCE

National Oceanic and Atmospheric Administration

[RTID 0648-XF082]

Mid-Atlantic Fishery Management Council (MAFMC); Public Meeting

AGENCY: National Marine Fisheries Service (NMFS), National Oceanic and Atmospheric Administration (NOAA), Commerce.

ACTION: Notice of public meeting.

SUMMARY: The Scientific and Statistical Committee (SSC) of the Mid-Atlantic Fishery Management Council (Council) will hold a meeting.

DATES: The meeting will be held on Tuesday, September 9, 2025, starting at 10:30 a.m. and continue through 1 p.m. on Wednesday, September 10, 2025. See SUPPLEMENTARY INFORMATION for agenda details.

ADDRESSES: This will be an in-person meeting with a virtual option. SSC members, other invited meeting participants, and members of the public will have the option to participate in person at the Hyatt Place Inner Harbor (511 South Central Ave., Baltimore, MD) or virtually via Webex webinar. Webinar connection instructions and briefing materials will be available at: www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the SSC will review updated stock projections and the most recent survey and fishery data and make 2026-2027 Acceptable Biological Catch (ABC) recommendations for Spiny Dogfish. The SSC will receive an update on the Council's Essential Fish Habitat (EFH) Amendment and an overview of the different habitat tools and applications that have been developed to support the Council's habitat initiatives. The SSC will also receive an overview of recent and upcoming activities for the Marine Recreational Information Program (MRIP) and an update on the Northeast commercial port sampling program. The SSC will discuss research activities, science implications, and fishery interactions associated with offshore wind in the Mid-Atlantic. The SSC will also discuss outcomes from the July SSC meeting. The SSC may take up any other business as necessary.

A detailed agenda and background documents will be made available on the Council's website (www.mafmc.org) prior to the meeting.

Special Accommodations

These meetings are physically accessible to people with disabilities. Requests for sign language interpretation or other auxiliary aid should be directed to Shelley Spedden, (302) 526-5251, at least 5 days prior to the meeting date.

Authority: 16 U.S.C. 1801 et seq.

Dated: August 22, 2025.
Rey Israel Marquez,
Acting Deputy Director, Office of Sustainable Fisheries, National Marine Fisheries Service.

[FR Doc. 2025-16338 Filed 8-25-25; 8:45 am]

BILLING CODE 3510-22-P